NUCLEAR REGULATORY COMMISSION

[Docket Nos. 50-445 and 50-446; NRC-2022-0183]

Vistra Operations Company LLC; Comanche Peak Nuclear Power Plant, Units 1 and 2

AGENCY: Nuclear Regulatory Commission.

ACTION: License renewal application; receipt.

SUMMARY: The U.S. Nuclear Regulatory Commission (NRC) has received an application for the renewal of Facility Operating License Nos. NPF-87 and NPF-89, which authorize Vistra Operations Company LLC (VOC or the applicant) to operate Comanche Peak Nuclear Power Plant (CPNPP), Units 1 and 2. The renewed licenses would authorize the applicant to operate CPNPP for an additional 20 years beyond the period specified in each of the current licenses. The current operating licenses for CPNPP expire as follows: Unit 1 on February 8, 2030, and Unit 2 on February 2, 2033.

DATES: The license renewal application referenced in this document was available on October 3, 2022.

ADDRESSES: Please refer to Docket ID NRC-2022-0183 when contacting the NRC about the availability of information regarding this document. You may obtain publicly available information related to this document using any of the following methods:

• Federal Rulemaking Website: Go to https://www.regulations.gov and search for Docket ID NRC-2022-0183. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The “Comanche Peak Nuclear Power Plant, Units 1 and 2—Facility Operating License Numbers NPF-87 and NPF-89—License Renewal Application,” is available in ADAMS under Accession No. ML22276A082.

• Public Library: A copy of the license renewal application for CPNPP can be accessed at the following public libraries: Somervell County Library, 108 Allen Dr, Glen Rose, TX 76043, and Hood County Library, 222 N Travis St., Granbury, TX 76048.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

FOR FURTHER INFORMATION CONTACT: Emmanuel Sayoc, Office of Nuclear Reactor Regulation, U.S. Nuclear Regulatory Commission, Washington, DC 20555-0001; telephone: 301-415-4084; email: Emmanuel.Sayoc@nrc.gov.

SUPPLEMENTARY INFORMATION: The NRC has received an application from VOC, dated October 3, 2022, filed pursuant to section 103 of the Atomic Energy Act of 1954, as amended, and part 54 of title 10 of the Code of Federal Regulations, “Requirements for Renewal of Operating Licenses for Nuclear Power Plants,” to renew the operating licenses for CPNPP. Renewal of the licenses would authorize the applicant to operate the facility for an additional 20-year period beyond the period specified in the respective current operating licenses. The current operating licenses for CPNPP expire as follows: Unit 1 on February 8, 2030, and Unit 2 on February 2, 2033. The CPNPP units are Pressurized Water Reactors located in Somervell County, Texas. The acceptability of the tendered application for docketing, and other matters, including an opportunity to request a hearing, will be the subject of subsequent Federal Register notices.

Dated: October 26, 2022.
For the Nuclear Regulatory Commission.
Lauren K. Gibson,
Chief, License Renewal Project Branch, Division of New and Renewed Licenses, Office of Nuclear Reactor Regulation.

[FR Doc. 2022-23633 Filed 10-28-22; 8:45 am]

BILLING CODE 7590-01-P